DEPARTMENT OF ENERGY

Southeastern Power Administration

Cumberland System of Projects

AGENCY: Southeastern Power Administration, DOE.

ACTION: Notice of extension of time to present written comments.

SUMMARY: The period for submitting written comments on Southeastern's proposed rate adjustment is extended to July 1, 2011.

DATES: Written comments may be submitted until the close of business July 1, 2011.

ADDRESSES: Written comments should be submitted to: Kenneth E. Legg, Administrator, Southeastern Power Administration, Department of Energy, 1166 Athens Tech Road, Elberton, Georgia 30635-6711.

FOR FURTHER INFORMATION CONTACT: J. W. Smith, Public Utilities Specialist, Finance and Marketing Division, Southeastern Power Administration, Department of Energy, 1166 Athens Tech Road, Elberton, Georgia, 30635-6711 (706-213-3839).

SUPPLEMENTARY INFORMATION: On March 7, 2011, Southeastern published a notice in the Federal Register (76 FR 12354) that proposed new rate schedules to replace the current wholesale power schedules for the Cumberland System for a two-year period from October 1, 2011, to September 30, 2013. The notice outlined a public comment process that included a public information and comment forum for the Cumberland customers and interested parties which was held in Nashville, Tennessee, on May 3, 2011. The public information process also provided that additional written comments would be due to Southeastern on or before June 6, 2011. At the public information and comment forum, the Cumberland customers, through their representatives, requested an extension of the comment period from June 6, 2011, to close of business on July 1, 2011. The additional time is needed in order for the customers to review extensive materials and information provided and developed at and after the forum and to allow sufficient time for such necessary review and preparation of informed comments regarding the new proposed rates. For the reasons stated above, Southeastern hereby extends the period for submission of written comments to the close of business July 1, 2011.

Dated: May 9, 2011.
Herbert R. Nadler,
Acting Administrator.

[FR Doc. 2011-12503 Filed 5-19-11; 8:45 am]

BILLING CODE 6450-01-P